OFFICE OF PERSONNEL MANAGEMENT

January 2015 Pay Schedules

AGENCY: U.S. Office of Personnel Management (OPM).

ACTION: Notice.

SUMMARY: The President has signed an Executive order containing the 2015 pay schedules for certain Federal civilian employees. Pursuant to the President's alternative plan issued under 5 U.S.C. 5303(b) and 5304a on August 29, 2014, the Executive order authorizes a 1-percent across-the-board increase for statutory pay systems and provides that locality percentages remain at 2014 levels. This notice serves as documentation for the public record.

FOR FURTHER INFORMATION CONTACT: Lisa Dismond, Pay and Leave, Employee Services, U.S. Office of Personnel Management; (202) 606-2858 or pay-leave-policy@opm.gov.

SUPPLEMENTARY INFORMATION: On December 19, 2014, the President signed Executive Order 13686 (79 FR 77361), which implemented the January 2015 pay adjustments. The Executive order provides an across-the-board increase of 1 percent in the rates of basic pay for the statutory pay systems.

The publication of this notice satisfies the requirement in section 5(b) of Executive Order 13686 that the U.S. Office of Personnel Management (OPM) publish appropriate notice of the 2015 locality payments in the Federal Register.

Schedule 1 of Executive Order 13686 provides the rates for the 2015 General Schedule (GS) and reflects a 1-percent increase from 2014. Executive Order 13686 also includes the percentage amounts of the 2015 locality payments, which remain at 2014 levels. (See Section 5 and Schedule 9 of Executive Order 13686.)

GS employees receive locality payments under 5 U.S.C. 5304. Locality payments apply in the United States (as defined in 5 U.S.C. 5921(4)) and its territories and possessions. In 2015, locality payments ranging from 14.16 percent to 35.15 percent apply to GS employees in the 34 locality pay areas. The 2015 locality pay area definitions can be found at: http://www.opm.gov/policy-data-oversight/pay-leave/salaries-wages/2015/locality-pay-area-definitions/.

The 2015 locality pay percentages became effective on the first day of the first pay period beginning on or after January 1, 2015 (January 11, 2015). An employee's locality rate of pay is computed by increasing his or her scheduled annual rate of pay (as defined in 5 CFR 531.602) by the applicable locality pay percentage. (See 5 CFR 531.604 and 531.609.)

Executive Order 13686 establishes the new Executive Schedule (EX), which incorporates a 1-percent increase required under 5 U.S.C. 5318 (rounded to the nearest $100). By law, Executive Schedule officials are not authorized to receive locality payments.

Executive Order 13686 establishes the 2015 range of rates of basic pay for members of the Senior Executive Service (SES) under 5 U.S.C. 5382. The minimum rate of basic pay for the SES is $121,956 in 2015. The maximum rate of the SES rate range is $183,300 (level II of the Executive Schedule) for SES members who are covered by a certified SES performance appraisal system and $168,700 (level III of the Executive Schedule) for SES members who are not covered by a certified SES performance appraisal system.

The minimum rate of basic pay for the senior-level (SL) and scientific and professional (ST) rate range was increased by 1 percent ($121,956 in 2015), which is the amount of the across-the-board GS increase. The applicable maximum rate of the SL/ST rate range is $183,300 (level II of the Executive Schedule) for SL or ST employees who are covered by a certified SL/ST performance appraisal system and $168,700 (level III of the Executive Schedule) for SL or ST employees who are not covered by a certified SL/ST performance appraisal system. Agencies with certified performance appraisal systems for SES members and employees in SL and ST positions must also apply a higher aggregate limitation on pay—up to the Vice President's salary ($235,300 in 2015.)

Note: Section 738 of title VII of Division E of the Consolidated and Further Continuing Appropriations Act, 2015 (Public Law 113-235, December 16, 2014), continues the freeze on the payable pay rates for the Vice President and certain senior political appointees at 2013 levels during calendar year 2015. The section 738 pay freeze does not affect the 2015 rates (or ranges) of pay officially established by Executive Order 13686. Rather, it temporarily bars covered officials from receiving pay increases based on the 2015 increases in those officially established rates (or ranges).

Executive Order 13686 provides that the rates of basic pay for administrative law judges (ALJs) under 5 U.S.C. 5372 are increased by 1 percent, rounded to the nearest $100 in 2015. The rate of basic pay for AL-1 is $158,700 (equivalent to the rate for level IV of the Executive Schedule). The rate of basic pay for AL-2 is $154,800. The rates of basic pay for AL-3/A through 3/F range from $105,900 to $146,600.

The rates of basic pay for members of Contract Appeals Boards are calculated as a percentage of the rate for level IV of the Executive Schedule. (See 5 U.S.C. 5372a.) Therefore, these rates of basic pay are increased by 1 percent in 2015.

On November 24, 2014, OPM issued a memorandum on behalf of the President's Pay Agent (the Secretary of Labor and the Directors of the Office of Management and Budget (OMB) and OPM) that continues GS locality payments for ALJs and certain other non-GS employee categories in 2015. By law, EX officials, SES members, employees in SL/ST positions, and employees in certain other equivalent pay systems are not authorized to receive locality payments. (Note: An exception applies to certain grandfathered SES, SL, and ST employees stationed in a nonforeign area on January 2, 2010.) The locality pay percentages continued for non-GS employees have not been increased in 2015. The memo is available at: http://www.opm.gov/policy-data-oversight/pay-leave/salaries-wages/2014/continuation-of-locality-payments-for-non-general-schedule-employees-november-24-2014.pdf.

On December 19, 2014, OPM issued a memorandum (CPM 2014-17) on the January 2015 pay adjustments. (See http://www.chcoc.gov/transmittals/TransmittalDetails.aspx?TransmittalID=6604.) The memorandum transmitted Executive Order 13686 and provided the 2015 salary tables, locality pay areas and percentages, and information on general pay administration matters and other related information. The “2015 Salary Tables” posted on OPM's Web site at http://www.opm.gov/policy-data-oversight/pay-leave/salaries-wages/ are the official rates of pay for affected employees and are hereby incorporated as part of this notice.

U.S. Office of Personnel Management.
Katherine Archuleta,
Director.

[FR Doc. 2015-05115 Filed 3-4-15; 8:45 am]

BILLING CODE 6325-39-P